SMALL BUSINESS ADMINISTRATION

Declaration of Disaster #3320; State of Washington

As a result of the President's major disaster declaration on March 1, 2001, I find that King, Kitsap, Lewis, Mason, Pierce and Thurston Counties constitute a disaster area due to damages caused by an earthquake on February 28, 2001. Applications for loans for physical damage as a result of this disaster may be filed until the close of business on April 30, 2001, and for loans for economic injury until the close of business on November 30, 2001 at the address listed below or other locally announced locations: U.S. Small Business Administration, Disaster Area 4 Office, P.O. Box 13795, Sacramento, CA 95853-4795.

In addition, applications for economic injury loans from small businesses located in the following contiguous counties in Washington may be filed until the specified date at the above location: Chelan, Cowlitz, Grays Harbor, Jefferson, Kittitas, Pacific, Skamania, Snohomish, Wahkiakum and Yakima.

The interest rates are:

| Percent
For Physical Damage:
Homeowners With Credit Available Elsewhere | 7.000
Homeowners Without Credit Available Elsewhere | 3.500
Businesses With Credit Available Elsewhere | 8.000
Businesses And Non-Profit Organizations Without Credit Available Elsewhere | 4.000
Others (Including Non-Profit Organizations) With Credit Available Elsewhere | 7.000
For Economic Injury:
Businesses and Small Agricultural Cooperatives Without Credit Available Elsewhere | 4.000

The number assigned to this disaster for physical damage is 332002 and for economic injury the number is 9K9100.

(Catalog of Federal Domestic Assistance Program Nos. 59002 and 59008.)

Dated: March 2, 2001.
James E. Rivera,
Acting Associate Administrator for Disaster Assistance.

[FR Doc. 01-5755 Filed 3-7-01; 8:45 am]

BILLING CODE 8025-01-U